FEDERAL EMERGENCY MANAGEMENT AGENCY

44 CFR Part 67

Final Flood Elevation Determinations

AGENCY: Federal Emergency Management Agency (FEMA).

ACTION: Final rule.

SUMMARY: Base (1-percent-annual-chance) Flood Elevations and modified Base Flood Elevations (BFEs) are made final for the communities listed below. The BFEs and modified BFEs are the basis for the floodplain management measures that each community is required either to adopt or to show evidence of being already in effect in order to qualify or remain qualified for participation in the National Flood Insurance Program (NFIP).

EFFECTIVE DATE: The date of issuance of the Flood Insurance Rate Map (FIRM) showing BFEs and modified BFEs for each community. This date may be obtained by contacting the office where the FIRM is available for inspection as indicated in the table below.

ADDRESSES: The final base flood elevations for each community are available for inspection at the office of the Chief Executive Officer of each community. The respective addresses are listed in the table below.

FOR FURTHER INFORMATION CONTACT: Matthew B. Miller, P.E., Chief, Hazards Study Branch, Federal Insurance and Mitigation Administration, 500 C Street, SW., Washington, DC 20472, (202) 646-3461 or (e-mail) matt.miller@fema.gov.

SUPPLEMENTARY INFORMATION: FEMA makes final determinations listed below of BFEs and modified BFEs for each community listed. The proposed BFEs and proposed modified BFEs were published in newspapers of local circulation and an opportunity for the community or individuals to appeal the proposed determinations to or through the community was provided for a period of ninety (90) days. The proposed BFEs and proposed modified BFEs were also published in the Federal Register.

This final rule is issued in accordance with section 110 of the Flood Disaster Protection Act of 1973, 42 U.S.C. 4104, and 44 CFR part 67.

FEMA has developed criteria for floodplain management in floodprone areas in accordance with 44 CFR part 60.

Interested lessees and owners of real property are encouraged to review the proof Flood Insurance Study and FIRM available at the address cited below for each community.

The BFEs and modified BFEs are made final in the communities listed below. Elevations at selected locations in each community are shown.

National Environmental Policy Act

This rule is categorically excluded from the requirements of 44 CFR part 10, Environmental Consideration. No environmental impact assessment has been prepared.

Regulatory Flexibility Act

The Acting Administrator of the Federal Insurance and Mitigation Administration certifies that this rule is exempt from the requirements of the Regulatory Flexibility Act because final or modified base flood elevations are required by the Flood Disaster Protection Act of 1973, 42 U.S.C. 4104, and are required to establish and maintain community eligibility in the NFIP. No regulatory flexibility analysis has been prepared.

Regulatory Classification

This final rule is not a significant regulatory action under the criteria of section 3(f) of Executive Order 12866 of September 30, 1993, Regulatory Planning and Review, 58 FR 51735.

Executive Order 12612, Federalism

This rule involves no policies that have federalism implications under Executive Order 12612, Federalism, dated October 26, 1987.

Executive Order 12778, Civil Justice Reform

This rule meets the applicable standards of section 2(b)(2) of Executive Order 12778.

List of Subjects in 44 CFR Part 67

Administrative practice and procedure, Flood insurance, Reporting and recordkeeping requirements.

Accordingly, 44 CFR Part 67 is amended to read as follows:

PART 67—[AMENDED]

1. The authority citation for Part 67 continues to read as follows:

Authority: 42 U.S.C. 4001 et seq.; Reorganization Plan No. 3 of 1978, 3 CFR, 1978 Comp., p. 329; E.O. 12127, 44 FR 19367, 3 CFR, 1979 Comp., p. 376.

§ 67.11 [Amended]

2. The tables published under the authority of § 67.11 are amended as follows:

State | City/town/county | Source of flooding | Location | #Depth in feet above ground. *Elevation in feet (NGVD) Modified
Iowa | Marshall County (Unincorporated Areas) (FEMA Docket No. 7605) | Iowa River |  | *861 to *881
Maps are available for inspection at the Marshall County Courthouse, 1 East Main Street, Marshalltown, Iowa.
Kansas | Winfield (City), Cowley County (FEMA Docket No. 7603) | Walnut River | At 0.9 mile downstream of 14th Avenue | *1126
|  |  | At approximately 0.4 mile upstream of Highway 160 | *1130
|  |  | At approximately 1.5 miles upstream of Highway 160 | *1133
|  | Black Crook Creek | Just upstream of Joel Mack Road | *1120
|  |  | At approximately 0.7 mile upstream of Joel Mack Road | *1120
Maps are available for inspection at the Public Works/Engineering Department, City Hall, 200 East Ninth Avenue, Winfield, Kansas.
Minnesota | Vadnais Heights (City), Ramsey County (FEMA Docket No. 7605) |  | Pond west of McMenemy Road, north of Meadowood Lane, and southeast Foothill Trail | *889
|  |  | Ponding area northeast of the intersection of McMenemy Road and Commerce Court | *892
|  |  | Ponding area north of Commerce Court and south of Oak Grove Parkway and west of SOO Line Railroad | *904
|  |  | Ponding area north of Oak Grove Parkway approximately 1,500 feet east of its intersection with McMenemy Road | *918
| Vadnais Heights (City), Ramsey County (FEMA Docket No. 7605) |  | Ponding area east of the SOO Line Railroad, north of Spring Hill Road and west of Morningside Avenue | *912
|  |  | Pond north of Willow Grove Lane and west of Greenhaven Drive | *915
|  |  | Pond north of Clearbrook Lane, east of Bramblewood Avenue, west of Evergreen Drive and South of Birch Ridge Road | *920
|  |  | Pond north of Heritage Court East and South of Valley Oaks Road | *941
|  |  | Ponding area south of Westfield Lane, east and north of Oakcrest Drive and north of South Oak Drive | *902
|  |  | Ponding area south of North Oak Drive, west of Thornhill Lane, and North of County Road “F” | *898
|  |  | Ponding area south of Bridgewood Terrace, east of Thornhill Lane and west of Centerville Road | *907
|  |  | Ponding area north of County Road “F”, east of Thornhill Lane and west of Centerville Road | *901
| Vadnais Heights (City), Ramsey County (FEMA Docket No. 7605) |  | Ponding area along Edgerton Street south of Bear Avenue North and north of Stockdale Road | *897
|  |  | Ponding area along Arcade Street and Stockdale Road south of County Road “F”, north of Kohler Road, east of Stockdale Drive and west of Centerville Road | *896
|  |  | Ponding area east of Interstate 35E, south of the Burlington Northern Railroad, west of Labore Road and north of County Road “E” | *908
|  |  | Ponding area north of Hiawatha Avenue, west of Greenbrier Street, and south of the Burlington Northern Railroad | *904
|  |  | Ponding area east of Centerville Road, and north of Vadnais Road | *900
|  |  | Pond south of Manor Street and north of Interstate 694 | *909
|  |  | Ponds south of Vadnais Center Drive, east of Interstate 35 and west of the interstate 35 and west of the intersection of Labore Road and Willow Lake Boulevard | *915
| Vadnais Heights (City), Ramsey County (FEMA Docket No. 7605) |  | Willow Lake | *884
|  |  | Ponding area south of County Road “E”, east of Montmorency Street and north of Willow Lake Boulevard | *949
Maps are available for inspection at City Hall, 800 East County Road E, Vadnais Heights, Minnesota.
Missouri | Madison County, (Unincorporated Areas) (FEMA Docket No. 7605) | Little St. Francis River | Approximately 8,550 feet downstream of West Main Street | *703
|  |  | Approximately 3,960 feet downstream of the Missouri Pacific Railroad | *716
|  | Saline Creek | Approximately 530 feet upstream of the abandoned Railroad Spur | *718
|  |  | Approximately 2,510 feet upstream of the abandoned Railroad Spur | *726
|  | Village Creek | Just downstream of Catherine Mine Road | *707
|  |  | Just downstream of the Missouri Pacific Railroad | *709
Maps are available for isnpection at the Madison County Courthouse, #1 Courthouse Square, Fredericktown, Missouri.
Texas | Leona (Town), Leon County (FEMA Docket No. 7605) | Adkisson Branch |  | *298 to 325
|  | Leona Branch |  | *300 to 356
|  | Leona Branch Tributary 1 |  | *315 to 349
|  | Leona Branch Tributary 2 |  | *299 to 315
Maps are available for inspection at City Hall, Highway 75, Leona, Texas.
* National Geodetic Vertical Datum.

(Catalog of Federal Domestic Assistance No. 83.100, “Flood Insurance.”)
Dated: July 15, 2002.
Robert F. Shea, Jr.
Acting Administrator, Federal Insurance and Mitigation Administration.

[FR Doc. 02-18527 Filed 7-22-02; 8:45 am]

BILLING CODE 6718-04-P